DEPARTMENT OF JUSTICE

Drug Enforcement Administration

Manufacturer of Controlled Substances; Notice of Registration

By Notice dated September 16, 2004, and published in the Federal Register on September 30, 2004, (69 FR 58542-58533), Lifepoint, Inc., 10400 Trademark Street, Rancho Cucamonga, California 91730, made application by renewal to the Drug Enforcement Administration (DEA) to be registered as a bulk manufacturer of the basic classes of controlled substances listed in Schedules I and II:

Drug | Schedule
Tetrahydrocannabinols (7370) | I
Amphetamine (1100) | II
Methamphetamine (1105) | II
Phencyclidine (7471) | II
Benzoylecgonine (9180) | II
Morphine (9300) | II

The company plans to produce small quantities of controlled substances for use in drug test kits.

No comments or objections have been received. DEA has considered the factors in 21 U.S.C. 823(a) and determined that the registration of Lifepoint, Inc. to manufacture the listed basic classes of controlled substances is consistent with the public interest at this time. DEA has investigated Lifepoint, Inc. to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic classes of controlled substances listed.

Dated: February 22, 2005.
William J. Walker,
Deputy Assistant Administrator, Office of Diversion Control, Drug Enforcement Administration.

[FR Doc. 05-4203 Filed 3-3-05; 8:45 am]

BILLING CODE 4410-09-P